DEPARTMENT OF TRANSPORTATION

Federal Highway Administration

Environmental Impact Statement: El Paso County, Texas

AGENCY: Texas Department of Transportation (TxDOT), Federal Highway Administration (FHWA), Department of Transportation.

ACTION: Federal notice of intent to prepare an Environmental Impact Statement (EIS).

SUMMARY: FHWA, on behalf of TxDOT, is issuing this notice to advise the public that an EIS will be prepared for a proposed transportation project to study the effects of the project on Interstate Highway 10 (I-10), known as the Downtown 10 project. The limits of the proposed project are from Executive Center Boulevard (Blvd.) to State Loop (SL) 478 (Copia Street) in El Paso County, Texas. The proposed project is approximately 5.7 miles in length.

FOR FURTHER INFORMATION CONTACT: Hugo Hernandez, TxDOT Project Manager, 13301 Gateway Boulevard West, El Paso, TX, 79928-5410, (915) 790-4243, Downtown10@txdot.gov.

SUPPLEMENTARY INFORMATION: The environmental review, consultation, and other actions required by applicable Federal environmental laws for this project are being, or have been, carried-out by TxDOT pursuant to 23 U.S.C. 327 and a Memorandum of Understanding dated December 9, 2019 and executed by FHWA and TxDOT.

Purpose and Need

The Downtown 10 project is needed because of:

• Traffic congestion and mobility issues

• Concerns surrounding incident management

• Failure to meet current design standards

By providing a long-term transportation solution for the City of El Paso, El Paso County, and the region, the purpose of the proposed project is to:

• Improve mobility and long-term congestion management

• Improve incident management

• Bring the facility up to current design standards

Proposed Action

The proposed project would improve I-10 from Executive Center Blvd. and SL 478 (Copia Street), a distance of approximately 5.7 miles. Traveling through downtown El Paso, the proposed improvements may include widening and reconstruction of the mainlanes, continuous frontage roads, retaining walls, bridges, ramps, and cross streets to overcome deterioration of pavement and bridges to include bicycle and pedestrian facilities.

Alternatives

The EIS will evaluate a range of build alternatives and a no-build alternative.

Provided below is background information on alternative analyses conducted to date. From 2017 through 2019, the TxDOT Reimagine I-10 Corridor Study (study) included extensive public outreach and high-level engineering/environmental evaluations of future needs for the I-10 corridor. The study resulted in a recommended study alternative for the entire 55-mile-long corridor. As a result, the Downtown 10 project (Segment 2 of the study) was initiated, and the first Public Meeting was held virtually from June 25 through July 15, 2020. The Public Meeting showed the recommended study alternative and requested additional public and stakeholder input in order to create more detailed conceptual alternatives. After Public Meeting #1, TxDOT utilized detailed engineering and environmental constraint criteria and the public/stakeholder feedback to identify 18 build alternatives, which were narrowed to nine conceptual build alternatives. The constraint criteria included mobility, design, multimodal, and environmental considerations.

The conceptual alternatives were then screened to three viable build alternatives (Alternatives D, G, and H). This process was presented in Public Meeting #2 (held virtually from February 24 through March 16, 2021) for additional public feedback and further study. The no-build alternative has and will be carried through the process as a baseline condition. Possible build alternatives include the following:

Alternative D

Alternative D proposes reconstruction and widening of the existing I-10 facility. From Executive Center Boulevard to University Drive, Alternative D shifts the I-10 alignment to the north/east. From University Drive to Campbell Street, Alternative D follows the existing alignment. From Campbell Street to Ange Street, Alternative D shifts the I-10 alignment to the north. From Ange Street to Piedras Street, Alternative D shifts the I-10 alignment to the south. From Piedras Street to SL 478 (Copia Street), Alternative D follows the existing alignment. Alternative D proposes new eastbound and westbound non-tolled managed lanes called adaptive lanes, an additional eastbound and westbound general purpose lane, a bicycle and pedestrian bridge at Prospect Street, the addition of an eastbound one-way collector roadway between Kansas Street and Piedras Street, a shared use path from Executive Center Boulevard to University Drive and from Santa Fe Street to SL 478 (Copia Street), and bicycle and pedestrian accommodations along cross street bridges. Additional capacity, operational, and bicycle and pedestrian accommodations would be considered for this alternative.

Alternative G

Alternative G proposes reconstruction and widening of the existing I-10 facility. From Executive Center Boulevard to Yandell Drive, Alternative G shifts the I-10 alignment to the north/east. From Yandell Drive to Santa Fe Street Alternative G follows the existing alignment. From Santa Fe Street to Ange Street, Alternative G shifts the I-10 alignment to the north. From Ange Street to Piedras Street, Alternative G shifts the I-10 alignment to the south. From Piedras Street to SL 478 (Copia Street), Alternative G follows the existing alignment. Alternative G proposes new eastbound and westbound non-tolled managed lanes called adaptive lanes, an additional eastbound and westbound general purpose lane, the addition of one-way collector roadways (eastbound and westbound) between Executive Center Boulevard and Santa Fe Street, the addition of an eastbound one-way collector roadway between Kansas Street and Piedras Street, a shared use path from Executive Center Boulevard to SL 478 (Copia Street), bi-directional cycle tracks from Santa Fe Street to Stanton Street, and bicycle and pedestrian accommodations along cross street bridges. Additional capacity, operational, and bicycle and pedestrian accommodations would be considered for this alternative.

Alternative H

Alternative H proposes reconstruction and widening of the existing I-10 facility. From Executive Center Boulevard to Yandell Drive, Alternative H shifts the I-10 alignment to the north/east. From Yandell Drive to Santa Fe Street, Alternative H follows the existing alignment. From Santa Fe Street to Ange Street, Alternative H shifts the I-10 alignment to the north. From Ange Street to Piedras Street Alternative H shifts the I-10 alignment to the south. From Piedras Street to SL 478 (Copia Street), Alternative H follows the existing alignment. Alternative H proposes new eastbound and westbound non-tolled managed lanes called adaptive lanes, an additional eastbound and westbound general purpose lane, the addition of one-way collector roadways (eastbound and westbound) between Executive Center Boulevard and Santa Fe Street, the addition of an eastbound one-way collector roadway between Kansas Street and Piedras Street, eastbound and westbound collector-distributor connectors between Campbell Street and SL 478 (Copia Street), a shared use path from Executive Center Boulevard to SL 478 (Copia Street), bi-directional cycle tracks from Santa Fe Street to Stanton Street, and bicycle and pedestrian accommodations along cross street bridges. Additional capacity, operational, and bicycle and pedestrian accommodations would be considered for this alternative.

Potential Project Impacts

Section 106 and Section 4(f) Historic Properties. The proposed build alternatives will be evaluated for potential adverse impacts to historic properties (i.e., properties that are eligible for or listed in the National Register of Historic Places) within the study area.

Environmental Justice (EJ). The proposed build alternatives will be evaluated for potential adverse impacts to EJ communities due to anticipated relocations as well as other impacts such as access, noise, and visual aesthetics. Additional analysis and public involvement will be conducted during the National Environmental Policy Act process to assess if the project would result in any disproportionately high and adverse effects on low-income and minority communities.

Air Quality. The project is located in the El Paso Moderate Nonattainment area for Particulate Matter (PM) 10, Attainment/Maintenance Area for Carbon Monoxide (CO), and the 2015 Marginal Nonattainment area for Ozone (O3). As such, the proposed build alternatives will be evaluated for potential adverse impacts to air quality and will be subject to a project level conformity determination.

The EIS will evaluate the potential impacts and benefits to the resources/communities identified above as well as the following other subject areas: Limited English Proficiency communities, land use, right-of-way, social and community resources, traffic noise, wildlife and threatened and endangered species, water resources, hazardous materials sites, and visual resources.

It is anticipated that the following would be required: Texas Antiquities Code permit and concurrence, Section 106 historic/archeological resources concurrence, Section 4(f) evaluation approval, U.S. Army Corp of Engineers Nationwide Permit(s), and conformity determination under the Clean Air Act.

Tentative Schedule

Agency Scoping Meeting: November 30, 2022

Public Scoping Meeting: November 30, 2022

In addition to the public scoping meeting, a public hearing will be held after the Draft EIS is prepared. Public notice will be given of the time and place of the hearing. After the public hearing and end of Draft EIS comment period, issuance of the Final EIS/Record of Decision is anticipated. If a build alternative is selected, all permits and authorization decisions would occur before construction. TxDOT will issue a single Final EIS and Record of Decision document pursuant to 23 U.S.C. 139(n)(2), unless TxDOT determines statutory criteria or practicability considerations preclude issuance of a combined document.

In accordance with 23 U.S.C. 139, cooperating agencies, participating agencies, and the public will be given an opportunity for continued input on project development. An in-person public scoping meeting is planned for Wednesday, November 30, 2022, from 4 p.m. to 7 p.m. MT at the El Paso Convention Center (Juarez Room) One Civic Center Plaza, El Paso, Texas, 79901. A virtual option will go live at 4 p.m. MT on November 30, 2022. Additional information on both options will be provided at https://www.txdot.gov/ by searching for “El Paso Downtown 10—Virtual Public Scoping Meeting with In-Person Option”.

The public scoping meeting will provide an opportunity for the public to review and comment on the draft coordination plan and schedule, the project's purpose and need, the range of alternatives, and methodologies and level of detail for analyzing alternatives. It will also allow the public an opportunity to provide input on any expected environmental impacts, anticipated permits or other authorizations, and any significant issues that should be analyzed in depth in the EIS. In addition to the public scoping meeting, a public hearing will be held after the draft EIS is prepared. Public notice will be given of the time and place of the hearing.

The public meeting will be conducted in English. If you need an interpreter or document translator because English is not your primary language or you have difficulty communicating effectively in English, one will be provided to you. If you have a disability and need assistance, special arrangements can be made to accommodate most needs. If you need interpretation or translation services or you are a person with a disability who requires an accommodation to attend and participate in the public meeting, please contact Lauren Macias-Cervantes, Public Information Officer, El Paso District, at Lauren.MaciasCervantes@txdot.gov or please call (915) 790-4341 no later than 4 p.m. MT, Monday, November 21, 2022. Please be aware that advance notice is required as some services and accommodations may require time for TxDOT to arrange.

The public is requested to identify in writing potential alternatives, information, and analyses relevant to this proposed project. Such information may be provided in writing by mail to the TxDOT El Paso District Office, Attn: Downtown 10/Hugo Hernandez, 13301 Gateway Boulevard West, El Paso, Texas 79928-5410. Electronic comments may also be submitted by email to Downtown10@txdot.gov or through the virtual site. Additionally, members of the public may also call (915) 209-0027 and leave recorded comments. Comments must be received by January 11, 2023.

(Catalog of Federal Domestic Assistance Program Number 20.205, Highway Planning and Construction.)

Michael T. Leary,
Director, Planning and Program Development, Federal Highway Administration.

[FR Doc. 2022-23917 Filed 11-2-22; 8:45 am]

BILLING CODE 4910-22-P